DEPARTMENT OF TRANSPORTATION

National Highway Traffic Safety Administration

[Docket No. NHTSA-2021-0033]

Agency Information Collection Activities; Notice and Request for Comment; Government 5-Star Safety Ratings Label Consumer Research

AGENCY: National Highway Traffic Safety Administration (NHTSA), Department of Transportation (DOT).

ACTION: Notice and request for public comments on approval of a new collection of information.

SUMMARY: The National Highway Traffic Safety Administration (NHTSA) invites public comments about our intention to request approval from the Office of Management and Budget (OMB) for a new collection of information. Before a federal agency can collect certain information from the public, it must receive approval from OMB. Under procedures established by the Paperwork Reduction Act of 1995, before seeking OMB approval, Federal agencies must solicit public comment on proposed collections of information, including extensions and reinstatements of previously approved collections. This document describes one collection of information for consumer research purposes regarding the Government 5-Star Safety Ratings section of the Monroney label for which NHTSA intends to seek OMB approval. On April 28, 2020, NHTSA published a notice in the Federal Register soliciting public comments with a 60-day comment period. NHTSA received 4 public comments submitted to the docket during this period. Given the extended time period since the initial publication of that notice, NHTSA is publishing this new 60-day notice. This notice also responds to the comments received on the original notice.

DATES: Written comments should be submitted on or before January 18, 2022.

ADDRESSES: You may submit comments, identified by the docket number NHTSA-2021-0033 by any of the following methods:

• Electronic submissions: Go to the Federal eRulemaking Portal at http://www.regulations.gov. Follow the online instructions for submitting comments.

• Mail or Hand Delivery: Docket Management, U.S. Department of Transportation, 1200 New Jersey Avenue SE, West Building Ground Floor, Room W12-140, Washington, DC 20590, between 9 a.m. and 5 p.m. Eastern Time, Monday through Friday, except on Federal holidays. To be sure someone is there to help you, please call (202) 366-9322 before coming.

• Fax: 202-493-2251.

Instructions: All submissions must include the agency name and docket number for this notice. For detailed instructions on submitting comments and additional information on the information-collection process, see the Public Participation heading of the Supplementary Information section of this document. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov, or the street address listed above. Follow the online instructions for accessing the dockets via internet.

FOR FURTHER INFORMATION CONTACT: For additional information or access to background documents, contact Mike Joyce, Marketing Specialist, Office of Communications and Consumer Information (NCO-0200), National Highway Traffic Safety Administration, 1200 New Jersey Ave, SE, W52-238, Washington, DC, 20590. Mike Joyce's phone number is 202-366-5600 and his email address is Mike.Joyce@dot.gov.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following: (i) Whether the proposed collection of information is necessary for the proper performance of the functions of the agency, including whether the information will have practical utility; (ii) the accuracy of the agency's estimate of the burden of the proposed collection of information, including the validity of the methodology and assumptions used; (iii) how to enhance the quality, utility and clarity of the information to be collected; and (iv) how to minimize the burden of the collection of information on those who are to respond, including the use of appropriate automated, electronic, mechanical or other technological collection techniques or other forms of information technology, e.g., permitting electronic submission of responses.

In compliance with these requirements, NHTSA asks for public comments on the following proposed collection of information for which the agency is seeking approval from OMB:

Title: Government 5-Star Safety Ratings Label Consumer Research.

OMB Control Number: 2127-New.

Form Number(s):

Type of Request: Request for approval of a new information collection.

Type of Review Requested: Regular.

Requested Expiration Date of Approval: Three years from approval date.

Abstract: The National Highway Traffic Safety Administration (NHTSA) was established by the Highway Safety Act of 1970 (Pub. L. 91-605, 202(a), 84 Stat. 1713, 1739-40). NHTSA'S mission is to save lives, prevent injuries and reduce economic costs due to crashes on the nation's highways. Part C of the Motor Vehicle and Driver Programs, at 49 U.S.C. 32302, requires the Secretary of Transportation (NHTSA by delegation) to provide to the public information about the safety of new passenger motor vehicles. Under its New Car Assessment Program (NCAP) and 5-Star Safety Ratings Program, NHTSA conducts frontal crash, side crash and rollover resistance tests of new vehicles and, based on the results, assigns safety ratings to the tested vehicles. The ratings enable consumers to consider and assess the relative safety of vehicles before deciding which new vehicle they want to purchase.

In 2005, Congress enacted the Safe, Accountable, Flexible, Efficient Transportation Equity Act: A Legacy for Users (SAFETEA-LU) (Pub. L. 109-59), which required the safety ratings assigned by NHTSA under NCAP or a statement that the vehicle was not assigned safety ratings under NCAP to be included on the window label for new vehicles, known as the Monroney label.¹ Per 15 U.S.C. 1232(g), the window label must contain the safety ratings published or released by NHTSA's New Car Assessment Program, including the graphical depiction of those ratings, reference to the safety rating categories (e.g., frontal impact crashes tests, side impact crash tests, and rollover restistance tests), and information describing the nature and meaning of the crash test data presented and a reference to http://www.safercar.gov. This information must be presented in a legible, visible, and prominent fashion that covers at least 8 percent of the total area of the label, or an area with a minimum length of four and a half inches and a minimum height of three and a half inches. If a vehicle has not been rated by NHTSA's New Car Assessment Program, then the label much state that.² On December 4, 2015, Congress enacted the Fixing America's Surface Transportation (FAST) Act, which requires the Secretary of Transportation (NHTSA by delegation) to issue a rule to ensure crash-avoidance information is provided next to crashworthiness information on vehicle window stickers.³

¹ The Automobile Information Disclosure Act of 1958, 15 U.S.C. 1231-1233, requires that new vehicles carry a sticker on a window containing specified information about the vehicle.

² 12 U.S.C. 1232(h).

³ Section 24322 of Part II—Safety Through Informed Consumers Act of 2015. Public Law 114-94.

In continuing support of its mission and to assist the agency in meeting its FAST Act requirement, NHTSA proposes to conduct qualitative research using focus groups in four geographic markets located across the country to evaluate design and consumer information improvements to the Government 5-Star Safety Ratings section of the Monroney label.⁴ This information collection will involve a one-time, voluntary phone screening survey involving members of the public to identify research participants and a one-time, in-person focus group. Participants in the research program will be asked to evaluate design and consumer information improvements to the Government 5-Star Safety Ratings section of the vehicle window sticker. NHTSA will use the findings from this research to support planned changes to the current label requirements and future designs for communicating vehicle safety ratings and advanced driver assistance systems performance assessments to consumers.

⁴ 15 U.S.C. 1232.

Summary of the Collection of Information: In this collection of information, NHTSA is seeking approval to conduct qualitative focus groups with 66 consumer participants. The focus groups aim to achieve the following objectives:

(1) Evaluate the overall appeal of each label concept and identify specific likes and dislikes associated with specific components of the label;

(2) Measure the ease of comprehension for each label concept and understand which visual and text features are most effective at conveying vehicle safety information;

(3) Assess the distinctiveness of how the information is displayed and understand how best to make the vehicle safety information stand out on the Monroney label; and,

(4) Identify additional areas of improvement related to the three main label sections relating to safety protection, safety technology, and overall vehicle safety performance.

Description of the Need for the Information and the Proposed Use of the Information: This collection of information will allow NHTSA to obtain critical information to assist the agency in fulfilling the 2015 FAST Act's requirement that NHTSA issue a rule to ensure that crash-avoidance information is provided next to crashworthiness information on vehicle windows stickers.⁵ Specifically, the data from this collection will be used to not only enhance consumer understanding of NHTSA's vehicle safety ratings and advanced driver assistance systems performance assessments, but also guide the development of communications that will help consumers as they consider this information in their vehicle purchase decisions.

⁵ Section 24322 of Part II—Safety Through Informed Consumers Act of 2015 requires the Secretary of Transportation (NHTSA by delegation) to issue a rule to ensure that crash-avoidance information is indicated next to crashworthiness information on stickers placed on motor vehicles by their manufacturers. Public Law 114-94, December 4, 2015.

Affected Public: Members of the public 18 years of age or older with a driver's license, who are a decision-maker for vehicle purchases for their household, has either purchased or leased a vehicle in the last six months or is planning to do so in the next 12 months and lives in one of the four recommended markets to conduct the research (Arlington, VA; Dallas, TX; Columbus, OH; or San Jose, CA).

Frequency: One time.

Number of Respondents: 500.

For this information collection, NHTSA plans to conduct a total of eight focus group sessions (two groups in each of the following recommended markets: Arlington, VA; Dallas, TX; Columbus, OH; and San Jose, CA), each lasting approximately 90 minutes. NHTSA intends for each focus group to consist of approximately nine participants (six participants in Arlington, due to social distancing restrictions) for a total of 66 participants in the focus group sessions. Based on experience, NHTSA will need to recruit up to 14 people per focus group in order to ensure that the desired number will appear at the focus group facility at the appointed time. If more than the desired number of participants show up at the facility for a given session, the research team will select nine participants (six in Arlington) based on their profile information provided in the recruitment grid to seat. The remaining participants will be paid their honorarium, thanked for their willingness to participate, and informed that they are free to go. Therefore, in order to ensure that there are approximately nine participants (six in Arlington) per focus group session, a total of 100 potential participants (eight per focus group in Arlington and 14 per focus group in other markets) will be recruited via telephone screening calls, which are estimated to take five minutes per call. In order to recruit 100 potential participants, NHTSA estimates that it will be necessary to initially reach out to and screen 500 people. This is based on experience that demonstrates that, of the people who are contacted, 20% will qualify for the study, be available and be interested in participating in the focus group.

Estimated Total Annual Burden Hours: 141 hours.

NHTSA estimates the total burden per person actually participating in this focus group research is estimated to be 95 minutes (five minutes for the screening/recruiting telephone call plus 90 minutes in the focus group discussion session). Additionally, the total burden per person recruited (but not participating in the discussions) is five minutes. Therefore, the total annual estimated burden imposed by this collection is approximately 141 hours.

Category of respondent | Number of respondents | Participation time (minutes) | Burden (hours)
Recruit/screening call (assumes 20% qualify, are available and interested in participating in the focus group) | 500 | 5 | * 41.7
Participation in 90-minute group | 66 | 90 | 99.0
Total Burden |  |  | 141
* Hours or 42 hours (rounded).

Estimated Burden Costs to All Respondents: $3,360.00.

The only cost burdens respondents will incur are costs related to travel to and from the research location. The costs are minimal and are expected to be offset by the honorarium that will be provided to all research participants. NHTSA estimates that each of the focus group participants will travel less than 30 miles one-way to the focus group location (60 miles round trip). Using the IRS standard mileage rate of $0.56 per mile,⁶ each respondent is expected to incur no more than $33.60 in transportation costs. Therefore, NHTSA estimates that the total costs to all respondents will be $3,360.00.

⁶ From Internal Revenue Services' 2021 Standard Mileage Rate for business miles driven. https://www.irs.gov/tax-professionals/standard-mileage-rates, last accessed May 7, 2021.

Public Comments Received During the First 60-Day Notice Period:

On April 28, 2020, NHTSA published a notice in the Federal Register soliciting public comments with a 60-day comment period. The comment period closed on June 29, 2020. NHTSA received 4 public comments submitted to the docket during this period including those from a disabled veteran, DEVCO Design & Development, The Center for Automotive Safety, and the National Transportation Safety Board. Comments from the public were invited on any aspects of the information collection, including (1) whether the proposed collection of information was necessary for the proper performance of the functions of the Department, including whether the information would have practical utility; (2) the accuracy of the Department's estimate of the burden of the proposed information collection; (3) ways to enhance the quality, utility and clarity of the information to be collected; and (4) ways to minimize the burden of the collection of information on respondents, including the use of automated collection techniques or other forms of information technology.

NHTSA received comments on the following topics:

(1) Manufacturing vehicles with appropriate standards of safety to relieve the burden for people with disabilities;

(2) Including a title and summary for the consumer research that is not restricted to the number of stars and is inclusive of the test results of conditions at speed;

(3) Concerns about the proposed collection of information lacking specificity about crash avoidance and other technology to be included in the evaluated labels and consideration for performance ratings for vulnerable road user protection systems; and

(4) Defining NCAP testing regimen before designing new safety labels.

The public comments and NHTSA's responses are summarized below:

(1) Disabled Veteran: “It would help relieve the burden for people with disabilities to have a vehicle that is appropriate for standards of safety.”

Response: The National Highway Traffic Safety Administration's mission is to save lives, prevent injuries, and reduce economic costs due to road traffic crashes, through education, research, safety standards, and enforcement. NHTSA's 5-Star Safety Program provides comparative information on the safety performance of new vehicles to assist consumers with vehicle purchasing decisions and to encourage safety improvements. This proposed collection of information specifically seeks to evaluate design and consumer information improvements to the Government 5-Star Safety Ratings section of the Monroney label. NHTSA's website is accessible and 508-compliant so that vehicle safety information is available and may benefit the purchasing decisions of everyone, including those with disabilities.

(2) David DeVeau, DEVCO Design & Development: Consideration for a title and summary for the consumer research that is not restricted to the number of stars and is inclusive of the test results of conditions at speed.

Response: The title of the proposed consumer research is based on the New Car Assessment Program's (NCAP) current consumer program, the Government 5-Star Safety Ratings. NHTSA began using the 5-Star Safety Ratings system in 1993 to help consumers make informed safety choices when buying new or used vehicles. The proposed research seeks to evaluate a variety of label concepts to explore both graphical and text-based communications as potential modifications to the Government 5-Star Safety Ratings section of the Monroney label with the intent of finding the most effective way to display information related to vehicle safety. The research will also explore whether consumers prefer ratings using a 5-Star system (1-5 stars), a numerical value or numerical scale. If research findings determine that consumers prefer the presentation of ratings in an alternative way, NHTSA will explore further research which may have implications for changes to the title of the consumer program.

(3) NTSB: Concerns about the proposed collection of information lacking specificity about crash avoidance and other technology to be included in the evaluated labels and consideration for performance ratings for vulnerable road user protection systems.

Response: As NHTSA has done in the past, there are two separate tracks for NHTSA efforts to upgrade NCAP. One track is the development of NHTSA's planned changes to NCAP—which is still ongoing, and the Agency intends to seek public comment on its proposal later in 2021. This track includes specific information about the crash avoidance and other technologies that NHTSA is considering including in NCAP such as performance thresholds, testing crash avoidance features, and developing a rating system that would compare all of those features. The other track is the rulemaking proceeding to update the safety ratings section on the Monroney label, which is the visualization of the safety performance information that would be available to consumers. NHTSA conducts comprehensive consumer research to inform its rulemakings to update the visualization of NCAP's rating information that would be included on the Monroney label. This consumer research does not focus on the details of the underlying rating system or any substantive changes to NCAP. Instead, NHTSA plans to use this consumer research to determine how to best convey vehicle safety rating information, including crash avoidance technologies, to the public. This 60-day notice initiates the multi-phase consumer research that NHTSA intends to use to inform its future update to the Monroney label. NHTSA is mindful in its development of a new rating system and accompanying visualization of the rating system through the Monroney label of the flexibility necessary to allow the agency to regularly update NCAP while also minimizing the number of rulemaking actions needed each time the agency incorporates a new technology or program in NCAP.

(4) Center for Auto Safety: Defining NCAP testing regimen before designing new safety labels.

Response: Similar to the explanation provided to NTSB's comment, there are two separate tracks for upgrading NCAP and upgrading the visualization of NCAP rating information on the Monroney label. Defining the NCAP testing regimen will be part of the first track, which will be detailed in upcoming requests for comments to upgrade NCAP. The consumer research efforts focus more on the consumer understanding of the safety information on the Monroney label and what NHTSA disseminates to the public. Also, due to the limited area on the Monroney label, the consumer research will help guide NHTSA on which visualization would best convey complex safety information to the public in a more consumer-friendly and flexible approach that is intended to minimize the number of rulemaking actions to update the Monroney label after future NCAP upgrades.

Public Comments Invited: The results of this research will be used to inform labeling requirement proposals and communications for the New Car Assessment Program, also known as the Government 5-Star Safety Ratings Program. You are asked to comment on any aspects of this information collection, including (1) whether the proposed collection of information is necessary for the proper performance of the functions of the Department, including whether the information will have practical utility; (2) the accuracy of the Department's estimate of the burden of the proposed information collection; (3) ways to enhance the quality, utility and clarity of the information to be collected; and (4) ways to minimize the burden of the collection of information on respondents, including the use of automated collection techniques or other forms of information technology. The agency will summarize and/or include your comments in the request for OMB's clearance of this information collection.

Authority: The Paperwork Reduction Act of 1995; 44 U.S.C. chapter 35, as amended; 49 CFR 1.49; and DOT Order 1351.29.

Issued on: November 16, 2021.
Juliette Marie Vallese,
Associate Administrator, Office of Communications and Consumer Information.

[FR Doc. 2021-25241 Filed 11-18-21; 8:45 am]

BILLING CODE 4910-59-P